ENVIRONMENTAL PROTECTION AGENCY

[EPA-HQ-OW-2004-0015; FRL-9944-45-OW]

Proposed Information Collection Request; Comment Request; Clean Water Act State Revolving Fund Program

AGENCY: Environmental Protection Agency (EPA).

ACTION: Notice.

SUMMARY: The U.S. Environmental Protection Agency (EPA) is planning to submit a request to renew an existing information collection request (ICR), “Clean Water State Revolving Fund Program” (EPA ICR No. 1391.10, OMB Control No. 2040-0118), to the Office of Management and Budget (OMB) for review and approval in accordance with the Paperwork Reduction Act (PRA). Before doing so, EPA is soliciting public comments on specific aspects of the proposed information collection as described below. This is a proposed extension of the ICR, which is currently approved through July 31, 2016. An Agency may not conduct or sponsor and a person is not required to respond to a collection of information unless it displays a currently valid OMB control number.

DATES: Comments must be submitted on or before June 3, 2016.

ADDRESSES: Submit your comments, referencing Docket ID No. EPA-HQ-OW-2004-0015, online using www.regulations.gov (our preferred method), by email to ow-docket@epa.gov, or by mail to: EPA Docket Center, Environmental Protection Agency, Mail Code 28221T, 1200 Pennsylvania Ave. NW., Washington, DC 20460.

EPA's policy is that all comments received will be included in the public docket without change, including any personal information provided, unless the comment includes profanity, threats, information claimed to be Confidential Business Information (CBI) or other information whose disclosure is restricted by statute.

FOR FURTHER INFORMATION CONTACT: Mark Mylin, Municipal Support Division, Office of Wastewater Management, 4204M, Environmental Protection Agency, 1200 Pennsylvania Ave. NW., Washington, DC 20460; telephone number: 202-564-0607; email address: mylin.mark@epa.gov.

SUPPLEMENTARY INFORMATION: Supporting documents which explain in detail the information that the EPA will be collecting are available in the public docket for this ICR, docket number EPA-HQ-OW-2004-0015. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA (44 U.S.C. 3501 et seq.), EPA is soliciting comments and information to enable it to:

• Evaluate whether the proposed collection of information is necessary for the proper performance of the functions of the Agency, including whether the information will have practical utility;

• evaluate the accuracy of the Agency's estimate of the burden of the proposed collection of information, including the validity of the methodology and assumptions used;

• enhance the quality, utility and clarity of the information to be collected; and

• minimize the burden of the collection of information on those who are to respond, including through the use of appropriate automated electronic, mechanical or other technological collection techniques or other forms of information technology, e.g., permitting electronic submission of responses.

EPA will consider the comments received and amend the ICR as appropriate. The final ICR package will then be submitted to OMB for review and approval. At that time, EPA will issue another Federal Register notice to announce the submission of the ICR to OMB and the opportunity to submit additional comments to OMB.

Abstract: The Clean Water State Revolving Funds (CWSRF) were established by the 1987 amendments to the Clean Water Act (CWA) as a financial assistance program for a wide range of wastewater infrastructure and other water quality projects. The 1987 amendments added Title VI to the CWA, enabling EPA to provide grants to all 50 states and Puerto Rico to capitalize CWSRFs. The CWSRFs can provide loans and other forms of assistance for a wide array of projects, including construction of wastewater treatments facilities, green infrastructure projects, agricultural best management practices, and other water quality projects. Eligible borrowers of CWSRF funding range from municipalities to nonprofit organizations and other private entities. Recently, Title VI of the CWA was amended in 2014 by the Water Resources Reform and Development Act (WRRDA). Additional information about the CWSRFs is available at http://www.epa.gov/cwsrf/learn-about-clean-water-state-revolving-fund-cwsrf.

This ICR renews the Office of Management and Budget (OMB) Number 2040-0118 CWSRF ICR and provides updated estimates of the reporting burden associated with the information collection activities. The updated estimates are based on EPA's most recent public consultation and capture the estimated impact of the WRRDA amendments.

The individual information collections covered under this ICR are briefly described as follows:

Capitalization Grant Agreement/Intended Use Plan

The Capitalization Grant Agreement is the principal instrument by which a CWSRF commits to manage its revolving fund program in conformity with the requirements of the Clean Water Act. The grant agreement contains or incorporates by reference the intended use plan, application materials, required certifications, and other documentation required by EPA. The intended use plan describes how a CWSRF program intends to use its funds for the upcoming year to meet the objectives of the Clean Water Act (CWA).

Annual Report

The annual report indicates how the CWSRF has met its goals and objectives of the previous state fiscal year as stated in the grant agreement and, more specifically, in the intended use plan. The report provides information on loan recipients, loan amounts, loan terms, project categories of eligible costs, and similar data on other forms of assistance.

Annual Audit

The CWA requires a CWSRF to undergo an annual audit. Though an audit conducted under the Single Audit Act meets this requirement, EPA still recommends that a CWSRF also undergo a separate independent audit as a best management practice. The audit must contain an opinion on the financial condition of the CWSRF program, a report on its internal controls, and a report on compliance with applicable laws and the CWA.

Clean Water National Information Management System (CWNIMS) and CWSRF Benefits Reporting (CBR)

To meet the CWA objective of “promoting the efficient use of fund resources,” states must enter financial data, including project disbursements, into the CWNIMS database on an annual basis. This publicly available information is used by the EPA to assess compliance with the CWSRFs' mandate to use all funds in an “expeditious and timely” manner and achieve the objectives of the CWA. Project level data is collected on a quarterly basis using the CBR System to record projected environmental results from CWSRF projects.

Public Awareness Policy

Per EPA Grants Policy Issuance (GPI) 14-02: Enhancing Public Awareness of EPA Assistance Agreements, CWSRF borrowers must publicize the EPA's involvement in project funding only up to the funding amount in each year's capitalization grant. The CWSRFs have various options to meet this requirement.

With the exception of the public awareness policy, the respondents for the information collection activities are the state environmental departments, and/or finance agencies responsible for operating the CWSRFs. The public awareness policy directly impacts CWSRFs borrowers that are designated as recipients of federal funds. The burden associated with the public awareness policy may have an impact on small entities. However, this impact is mitigated by the fact that the CWSRFs have flexibility in determining which borrowers must comply with this requirement.

Form Numbers: None.

Respondents/affected entities: Entities affected by this action are state environmental departments, and/or finance agencies responsible for operating the CWSRFs and eligible CWSRF borrowers.

Respondent's obligation to respond: Required to obtain or retain a benefit per Title VI of CWA as amended by WRRDA.

Estimated number of respondents: 51 state environmental departments and/or finance agencies (per year); 393 eligible CWSRF borrowers (per year).

Frequency of response: Varies by requirement (i.e., quarterly, semi-annually and annually).

Total estimated burden: 57,376 hours (per year). Burden is defined at 5 CFR 1320.03(b).

Total estimated cost: $6,074,741 (per year).

Changes in Estimates: This renewal adds two information collections activities not included in the previous version of the ICR. Specifically, the renewal includes the additional burden associated with the EPA requirement that the CWSRFs submit data into the CWNIMS and CBR databases on a recurring basis. The renewal also reflects the additional burden related to the recently released public awareness policy, directing CWSRF borrowers that receive federal funds to publicize EPA's role in funding the projects.

Though these information collection activities add additional burden, the total estimated reporting burden under this renewal is significantly lower compared to the previously approved ICR. The estimate of the annual burden has been decreased by 748,471 hours while the total annual cost burden has been decreased by $17,744,006. This significant revision is due to the removal of the burden associated with CWSRF applications and ongoing ARRA reporting.

Dated: March 25, 2016.
Sheila E. Frace,
Acting Director, Office of Wastewater Management.

[FR Doc. 2016-07667 Filed 4-1-16; 8:45 am]

BILLING CODE 6560-50-P